DEPARTMENT OF COMMERCE

National Oceanic and Atmospheric Administration

50 CFR Part 660

[Docket No. 051014263-6028-03; I.D. 120805A]

RIN 0648-AU00

Fisheries Off West Coast States and in the Western Pacific; Pacific Coast Groundfish Fishery; Specifications and Management Measures

AGENCY: National Marine Fisheries Service (NMFS), National Oceanic and Atmospheric Administration (NOAA), Commerce.

ACTION: Final rule.

SUMMARY: NMFS is implementing revisions to the 2006 commercial and recreational groundfish fishery management measures for groundfish taken in the U.S. exclusive economic zone (EEZ) off the coasts of Washington, Oregon, and California. Management measures that are new for 2006 are intended to: achieve but not exceed optimum yields (OYs); prevent overfishing; rebuild overfished species; and reduce and minimize the incidental catch and discard of overfished and depleted stocks. NMFS is also revising the 2006 darkblotched rockfish OY, at the request of the Pacific Fishery Management Council (Pacific Council), and under the authority of the Magnuson-Stevens Fishery Conservation and Management Act (Magnuson-Stevens Act). These actions, which are authorized by the Pacific Coast Groundfish Fishery Management Plan (FMP) and the Magnuson-Stevens Act, are intended to allow fisheries to access more abundant groundfish stocks while protecting overfished and depleted stocks.

DATES: Effective Date: March 1, 2006.

ADDRESSES: Copies of the Environmental Assessment/Regulatory Impact Review (EA/RIR) of Management Measures for Spiny Dogfish and Pacific Cod, the Finding of No Significant Impact (FONSI), the Final Regulatory Flexibility Analysis (FRFA), and the Small Entity Compliance Guide (SECG) are available from D. Robert Lohn, Administrator, Northwest Region, NMFS, 7600 Sand Point Way NE, Seattle, WA 98115-0070, phone: 206-526-6150.

FOR FURTHER INFORMATION CONTACT: Jamie Goen (Northwest Region, NMFS), phone: 206-526-6140; fax: 206-526-6736; and e-mail: jamie.goen@noaa.gov.

SUPPLEMENTARY INFORMATION:

Electronic Access

This Federal Register document is available on the Government Printing Office′s Web site at: www.gpoaccess.gov/fr/index.html.

Background information and documents are available at the NMFS Northwest Region Web site at: www.nwr.noaa.gov and at the Pacific Council's Web site at: www.pcouncil.org.

Background

The Pacific Coast Groundfish FMP and its implementing regulations at title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); and December 5, 2005 (70 FR 72385). A proposed rule for the specifications and management measures for March through December 2006 was published in the Federal Register on December 19, 2005 (70 FR 75115).

Acceptable biological catches (ABCs) and OYs are established for each year. Management measures are established at the start of the biennial period, and are adjusted throughout the biennial management period, to keep harvest within the OYs. At the Pacific Council's October 31 - November 4, 2005, meeting in San Diego, CA, the Pacific Council′s Groundfish Management Team (GMT) considered 2005 catch data and new West Coast Groundfish Observer Program (WCGOP) data and made recommendations to adjust groundfish management measures for December 2005 and for all of 2006. The adjustments for December 2005 through February 2006 were implemented via an inseason action (70 FR 72385, December 5, 2005). The management measures for the remainder of 2006 (March through December) were proposed on December 19, 2005 (70 FR 75115), and are being implemented through this rule.

The following changes to current groundfish management measures for March through December 2006 were recommended by the Pacific Council, in consultation with Pacific Coast Treaty Indian Tribes and the States of Washington, Oregon, and California, at its October 31-November 4, 2005, meeting in San Diego, CA. The changes recommended by the Pacific Council include: (1) Adjustments to the limited entry fixed gear and open access sablefish daily trip limit (DTL) fishery north of 36° N. lat.; (2) adjustments to limited entry trawl cumulative limits for sablefish, thornyheads, Dover sole, other flatfish, petrale sole, arrowtooth flounder, slope rockfish, splitnose rockfish, and lingcod; (3) adjustments to limited entry fixed gear and open access cumulative limits for shelf, shortbelly, and widow rockfish south of 34°27′ N. lat. and minor nearshore and black rockfish between 42° N. lat. and 40°10′ N. lat.; (4) adjustments to the Rockfish Conservation Area (RCA) boundaries; (5) adjustments to Washington, Oregon and California's recreational groundfish fisheries; (6) establishment of limited entry trawl, limited entry fixed gear, and open access trip limits for Pacific cod and spiny dogfish; (7) adjustments to the tribal management 5measures for Pacific cod, spiny dogfish and thornyheads; (8) clarification of the non-groundfish trawl rockfish conservation area (RCA); and (9) reduction of the 2006 darkblotched rockfish OY to 200 mt. Consistent with the FMP, Pacific Coast groundfish landings would be monitored throughout the year, and further adjustments to trip limits, RCAs, and other management measures would be made as necessary to allow achievement of, or to avoid exceeding, OYs.

The 2006 darkblotched rockfish OY of 200 mt is an interim measure pursuant to section 305(c) of the Magnuson-Stevens Act, in effect while the rebuilding plan (now referred to as Amendment 16-4) is being developed and implemented. Under the provisions of section 305(c)(3) of the Magnuson-Stevens Act, interim measures shall remain in effect for not more than 180 days after the date of publication, and may be extended by publication in the Federal Register for an additional period of not more than 180 days, provided the public has had an opportunity to comment on the interim measures, and the Council is actively preparing a plan amendment to address rebuilding on a permanent basis. The public has been provided an opportunity to comment on the interim measures in the proposed rule (70 FR 75115, December 19, 2005), and the Council is actively working on an FMP amendment. In addition, the Court's Order in Natural Resources Defense Council (NRDC) v. NMFS, 421 F.3d 872 (9th Cir. 2005) dated December 8, 2005, requires NMFS to implement a darkblotch quota for the entire 2006 fishing year pursuant to section 305(c). Because the Council is unlikely to have completed work on Amendment 16-4 prior to expiration of this interim measure, NMFS will likely extend the darkblotched rockfish OY beyond the first 180-day period. NMFS will confirm this extension by publishing notice of continuation of the measure in the Federal Register.

Comments and Responses

During the comment period on the proposed rule to implement changes to the 2006 Pacific Coast groundfish fishery specifications and management measures, which ended on January 15, 2006, NMFS received four letters of comment. One letter was received from the Makah Tribe; one letter was received from an industry organization; one letter was received from a non-governmental organization representing environmental interests; and one letter was received from a member of the public. These comments are addressed here:

Comment 1: Treaty Indian tribes, including the Makah Tribe, are entitled to 50 percent of the available harvest of groundfish species taken from their usual and accustomed (U&A) fishing grounds. The Makah Tribe analyzed Pacific Fisheries Information Network (PacFIN) Pacific cod landings data from the four Washington ports that commonly receive groundfish taken from the treaty U&A fishing grounds: Neah Bay, Port Angeles, Blaine, and Bellingham. In 2003 and 2004, total tribal and non-tribal Pacific cod landings into those ports were 953 and 827 mt, respectively. Therefore, the Makah Tribe supports the Pacific Council's recommendation and NMFS's proposal for a 400 mt Pacific cod tribal harvest guideline in 2006.

Response: Taking into consideration the above information, the tribal proposal and the Pacific Council recommendation, NMFS has implemented a 400-mt tribal harvest guideline for Pacific cod in 2006 with this action.

Comment 2: One commenter supports the decrease in the darkblotched rockfish optimum yield (OY) for 2006 from 294 mt to 200 mt. The commenter notes that the latest stock assessment shows that darkblotched rockfish is rebuilding more quickly than originally projected and, therefore, the OY could be set higher without demonstrably slowing the rebuilding progress. However, the commenter supports NMFS effort to rebuild quicker than required by law, as was done with lingcod, while minimizing impacts on local coastal communities, including fishermen and processors.

Another commenter believes that the rule proposes to set an OY that is higher than the lowest level possible and is thereby violating the Magnuson-Stevens Act, which requires overfished species to be rebuilt as quickly as possible. In the 2005-2006 Pacific Coast Groundfish Specifications and Management Measures Environmental Impact Statement (hereafter, 2005-2006 Specs EIS), NMFS projected total fishing mortality of less than 100 mt for darkblotched rockfish. The commenter believes that NMFS failed to consider the lowest possible fishing level for darkblotched rockfish because an OY at or below 100 mt was not adopted.

A third commenter suggested that all species should have their quotas cut by 50 percent this year and 10 percent each succeeding year.

Response: As stated in the proposed rule, this action to adjust the 2006 darkblotched rockfish OY from 294 mt to 200 mt is an interim measure to decrease the OY within the current rebuilding plan until a revised rebuilding plan is developed. Revising the rebuilding plan requires extensive analysis to consider the interaction of the rebuilding plans for all overfished species, to determine the needs of the fishing communities, and to allow substantial public participation. Allowable harvest levels for all overfished groundfish species for 2007 and beyond will be based on new rebuilding plans intended to meet the court's decision in NRDC v. NMFS, 421 F.3d 872 (9th Cir. 2005). The Pacific Council intends to review, re-analyze, and revise rebuilding plans via Amendment 16-4 to the FMP, which will be developed concurrently with the 2007-2008 groundfish harvest specifications and management measures. These revised rebuilding plans in Amendment 16-4 will determine the OYs selected for overfished groundfish species, including darkblotched rockfish, in 2007 and beyond.

At the Pacific Council's October 30 - November 4, 2005, meeting, in order to determine if interim action is appropriate, NMFS and the Pacific Council analyzed the effects of a range of 2006 darkblotched rockfish OYs, from 0-696 mt, on the time to rebuild the darkblotched stock. The Pacific Council's Groundfish Management Team (GMT) estimated: with a darkblotched rockfish OY of zero, the stock would be rebuilt by July 2009; with an OY of 200 mt, the stock would be rebuilt by March 2010; and with the previously established OY of 294 mt, the stock would be rebuilt by July 2010. Since that meeting, NMFS analyzed the estimated gains in rebuilding time that could occur were the 2006 OY set at 100 mt, and found that a 100 mt OY could result in the stock being rebuilt by 3-6 months prior to the March 2010 date associated with a 200 mt OY. As discussed below, this small gain in rebuilding time would result in large economic losses to the fishing industry and coastal communities. Therefore, NMFS concurs with the Pacific Council's recommendation of a 200 mt OY for darkblotched rockfish in 2006 as an appropriately conservative interim OY intended to accommodate some targeting of the more healthy groundfish stocks that co-occur with darkblotched rockfish.

Populations of the overfished rockfish species are found along the entire length of the U.S. West Coast. Because of their varied biological characteristics, overfished rockfish are caught in a broad range of fisheries, tribal and non-tribal, commercial and recreational. NMFS, its partner state and tribal agencies, and the Pacific Council have focused their efforts to protect and rebuild overfished groundfish species on minimizing or eliminating directed harvest and minimizing incidental catch of overfished stocks. Overfished species are caught in all of the groundfish fisheries coastwide not because they are targeted, but because they co-occur with the more abundant stocks the fisheries do target. For example, yelloweye rockfish is often found at similar depths to and caught in common with Pacific halibut, an abundant flatfish targeted with hook-and-line gear in the recreational and commercial fisheries. Fisheries for target species must then be constrained in some way in order to rebuild the non-target overfished species, usually with: reductions in allowable landings levels of target species, reductions in allowable fishing area so as to minimize fishing in areas where overfished species commonly occur, reductions in allowable duration of fishing seasons, or alterations in fishing gear that either prevent overfished species from being caught by the gear or expel overfished species from the gear. All of these tools are used either individually or in combination for West Coast fisheries that either target groundfish directly, or take groundfish incidentally to their non-groundfish fishing operations. Therefore, when NMFS analyzes revenues earned or sacrificed in order to rebuild overfished species at slower or faster rates, the agency is looking at revenues from the more healthy target stocks, not from the overfished species themselves.

In setting the 2006 darkblotched rockfish OY, NMFS considered both the biological constraints of the stock in terms of its ability to rebuild by particular dates, and the economic impacts of rebuilding at different rates on coastal fishing communities. NMFS particularly considered the effect of reducing the 2006 darkblotched rockfish OY to 100 mt.

The majority of darkblotched rockfish landed are caught with limited entry bottom trawl gear (99.6 percent in 2004), incidentally to slope fisheries for groundfish. Because the groundfish fishery has been managed under rebuilding measures since 2000, NMFS reviewed the effect of a 100 mt darkblotched rockfish OY in 2006 both from the perspective of incremental changes to the fishery from current harvests and associated revenue, and from the perspective of cumulative changes that have been ongoing within the fishery from the past several years. In terms of inflation-adjusted dollars, since 2001, real ex-vessel revenues from bottom trawl vessels have been less than half of what they were in 1996. Many vessels, processors, shore-based infrastructure, and support businesses were built to service a fishery that generated revenues and landings that are larger than what the current fishery generates. This means that current annual revenues are less able to support the fixed costs of maintaining the structures built to support a more productive industry. Because revenues have declined substantially from this period of higher productivity, businesses are less able to withstand further declines in revenue. In other words, the effect upon fishers, processors, support businesses, and communities of reducing ex-vessel revenues is likely to be greater when the fishery annually generates $20 million compared to a reduction when the fishery annually generates $40 million.

NMFS analyzed the effects of a 100-mt 2006 darkblotched rockfish OY from the base of management measures implemented in this rule, assuming available darkblotched rockfish incidental catch to be cut to that 100 mt level. Using ex-vessel prices from 2005, 100 mt of darkblotched rockfish translates into roughly $94,000 to $100,000 in ex-vessel revenue from landings of darkblotched rockfish itself. However, reducing the catch of species that co-occur with darkblotched rockfish to stay within a 100 mt OY in 2006 would mean a reduction in ex-vessel revenues from co-occurring slope species by several million dollars. Exvessel revenues should only be viewed as an indicator of economic impacts to the vessels, their crew, and owners. Taking into account the additional impact to processors, support businesses, and West Coast communities means an additional effect that is roughly 20-40 percent higher than the ex-vessel revenue impact.

For example, preliminary catch estimates from 2005 show that 100 mt of darkblotched rockfish had been caught incidentally to the slope trawl fishery by late August. Had the portion of the fishery that catches darkblotched rockfish closed upon attainment of 100 mt of darkblotched rockfish, the cost to the bottom trawl fleet would have been approximately $3.5 million in foregone ex-vessel revenue, or approximately 18 percent of total bottom trawl ex-vessel revenue in the area north of 40°10′ N. lat. in 2005. In comparison, approximately 100 mt of darkblotched rockfish had been caught by mid-June in 2004, and had the portion of the bottom trawl fishery that catches darkblotched rockfish been closed upon attainment of 100 mt of darkblotched rockfish, approximately $6.5 million in ex-vessel revenues would have been lost, or approximately 38 percent of total bottom trawl ex-vessel revenues in the area north of 40°10′ N. lat. for that year.

Limited entry bottom trawl regulations implemented in this final rule in place for 2006 are designed to distribute catch of target species more evenly throughout the year. In 2005, catch was distributed more heavily toward the early part of the year. Based on analysis applying regulations implemented by this rule to the fishery and incidental catch patterns, NMFS expects that the fishery will take 100 mt of darkblotched rockfish by August 2006. If the slope trawl fishery were closed in August 2006, the bottom trawl fleet would lose 25-36 percent of total bottom trawl ex-vessel revenues from the more abundant species that could be taken during the remaining months in the area north of 40°10′ N. lat. Based on total exvessel revenues in that area in the past several years, this is likely to mean a loss of $4.2 to $6.5 million just in ex-vessel revenues in that area.

If NMFS were to structure the 2006 season toward both maintaining a year round bottom trawl fishery and attaining the highest level of ex-vessel revenues without exceeding 100 mt of darkblotched rockfish, we estimate the cost to the fleet would be a loss of $3.2 to $6.0 million in ex-vessel revenues. This somewhat lower loss is in comparison to the $4.2 to $6.5 million loss that we expect would occur if the bottom trawl fishery were to close on attainment of 100 mt of darkblotched rockfish. Achieving a year-round bottom trawl fishery with a 100 mt darkblotched OY for 2006 would require inseason changes to regulations in May 2006. For purposes of analysis, NMFS assumed that the regulatory changes under these conditions would be designed to keep the November-December deepwater petrale sole fishery, to continue to allow harvest of thornyheads in waters deeper than where darkblotched rockfish occur, and to allow harvest of sablefish and Dover sole scheduled by management measures in this final rule during November-December in waters deeper than where darkblotched rockfish occur. These declines in landings of the more abundant stocks that co-occur with darkblotched rockfish and in associated ex-vessel revenue would most severely affect the vessels, processing plants, and ports with reliance upon and investment in the trawl slope groundfish fisheries north of 40°10′ N. lat. NMFS expects that the following ports would be most vulnerable to vessel bankruptcy and forfeitures and processing plant closures, were the darkblotched OY set to 100 mt in 2006: Blaine, Bellingham, Neah Bay, and Westport, Washington; Astoria, Newport, Coos Bay, and Brookings, Oregon; and Eureka, and Crescent City, California. Within these ports, the bottom trawl fishery would be most affected. In 2005 the bottom trawl fishery in these ports generated approximately $18 million in ex-vessel revenue compared with a combined $32 million for bottom and midwater trawl and $46 million for all groundfish in these ports.

As stated above, NMFS and the Pacific Council intend to review and revise all of the rebuilding plans in advance of the 2007-2008 fishing period. For 2006, NMFS continues to support a darkblotched rockfish OY of 200 mt. The difference in rebuilding times between setting an OY for 2006 at 200 mt versus 100 mt, and maintaining darkblotched mortality at the corresponding spawner per recruit harvest rate each year until the stock is rebuilt, is less than half a year, while the estimated economic impacts from this reduction on the fishing industry and coastal communities is on the order of several millions of dollars lost each year until the stock is rebuilt. Therefore, NMFS does not support reducing the darkblotched OY below 200 mt in 2006.

NMFS also disagrees with the second commenter's statement that the agency is violating the Magnuson-Stevens Act. This interim reduction in the OY will prevent potential mortality that could occur if the current OY of 294 mt remains in place. This interim measure is consistent with section 305(c) of the Magnuson-Stevens Act in establishing interim measures until the revised long-term rebuilding plan is developed through the Council process and implemented by NMFS. This interim measure is not intended to be the long-term rebuilding OY; however, as explained above, this OY level provides for continued rebuilding through 2006.

Finally, the third commenter suggested that harvest levels for all species be cut by one-half in 2006 and by 10 percent for each subsequent year. The darkblotched rockfish OY for 2006 has been cut via this action by approximately one-third from the 2006 OY NMFS had implemented on January 1, 2005 (69 FR 77012, December 23, 2004). The proposed rule for this action did not consider revisions to 2006 harvest levels for species other than darkblotched rockfish. The Pacific Council and its collaborating agencies are developing harvest level and management measure recommendations for 2007-2008 via a public process during spring 2006. NMFS expects to propose a rule for public review and comment on the 2007-2008 harvest specifications and management measures and the new rebuilding plans for overfished species in early fall 2006.

Comment 3: One commenter supports changes to 2006 management measures (trip limits and closed areas) between 40°10′ N. lat. and 38° N. lat. for slope rockfish and splitnose rockfish, species that co-occur with darkblotched rockfish. The commenter acknowledges that management measures in this area have caused adverse economic impacts, especially in Fort Bragg, CA, but supports NMFS efforts to rebuild darkblotched as quickly as possible while minimizing impacts on local coastal communities.

Another commenter believes that the rule proposes a significant increase in fishing pressure on species that co-occur with darkblotched rockfish. This commenter does not support liberalizing 2006 management measures between 40°10′ N. lat. and 38° N. lat. for slope rockfish and splitnose rockfish. This commenter requests information on the additional darkblotched rockfish mortality expected to occur between 40°10′ N. lat. and 38° N. lat. from changes to management measures in 2006, as well as the darkblotched rockfish mortality that was estimated to have occurred from changes to management measures in this area during 2005. This commenter believes the claims that darkblotched rockfish incidental catch rates are considerably lower between 40°10′ N. lat. and 38° N. lat. is unsupported. The commenter also states that these changes to management measures violate the bycatch requirements of the Magnuson-Stevens Act, including the requirement to adopt all practicable measures to minimize bycatch (16 U.S.C. 1853 (a)(11)).

Response: As stated in the proposed rule (70 FR 75115, December 19, 2005), the harvest of slope and splitnose rockfish have been constrained in recent years in order to protect darkblotched rockfish, a co-occurring overfished species.

Darkblotched rockfish are not distributed uniformly along the coast but instead are most concentrated in waters off Washington and northern Oregon, decreasing in density southward from northern Oregon. The most recent stock assessment for darkblotched rockfish (June 2005) reviews catch of darkblotched rockfish from observed fishing trips and from survey catches along a north-south gradient and by depth. The assessment shows that the majority of darkblotched rockfish are caught north of 40°10′ N. lat. Only about three percent of the NMFS triennial bottom trawl survey's cumulative catch-per-unit-of-effort of darkblotched rockfish occurs south of 38° N. lat. NMFS and the Pacific Council commonly use separate management regimes north and south of 38° N. lat., in order to allow slope management south of 38° N. lat. to be separated from management actions needed to rebuild darkblotched rockfish. Management measures between 40°10′ N. lat. and 38° N. lat. are intended to be intermediate in severity to those for areas south of 38° N. lat. and north of 40°10′ N. lat.

Darkblotched rockfish incidental catch rates between 40°10′ N. lat. and 38° N. lat. at depths of 150-fm (274-m) and greater are considerably lower than incidental catch rates at the same depth range north of 40°10′ N. lat. Because incidental catch rates for darkblotched rockfish are lower, population density of darkblotched rockfish is lower, and communities are more dependent on the deepwater trawl fishery in this area, the Pacific Council continues to recommend management measures for the area between 40°10′ N. lat. and 38° N. lat. that are intermediate in severity to those used in the areas north of 40°10′ N. lat. and south of 38° N. lat.

At the Pacific Council's November 2005 meeting, the GMT analyzed potential inseason adjustments for the 2006 calendar year. In particular, the GMT analyzed the effects on darkblotched rockfish of management measures to liberalize fishing opportunity between 40°10′ N. lat. and 38° N. lat. for the limited entry trawl slope fishery based on observed incidental catch rates. NMFS also considered the effects of management measures in 2005. Management measures affecting darkblotched rockfish in 2005 included: (1) limited entry trawl trip limits for slope rockfish and splitnose rockfish ranging from 0 to 20,000 lb (0 to 18,144 kg) per 2 months; and (2) seaward boundaries of the Trawl RCA ranging from 150 to 250-fm (274 to 457-m). It is estimated that the changes to management measures in 2005 in this area resulted in an additional 7 mt of darkblotched rockfish mortality compared to the mortality level expected from regulations in effect at the beginning of 2005.

Because the liberalizing measures in this limited area for 2006 will not dramatically increase the incidental take of darkblotched rockfish, the Pacific Council recommended making the offshore boundary of the Trawl RCA 150-fm (274-m) for the area between 40°10′ N. lat. and 38° N. lat. during the entire 2006 fishing year. In addition, the trip limits in that area for slope rockfish and splitnose rockfish have been changed to 8,000 lb (3,629 kg) per 2 months for the entire year. NMFS estimates that these changes will result in an additional 13 mt of darkblotched rockfish mortality compared to the mortality level expected from the regulations in effect at the end of 2005. NMFS anticipates that it will make inseason adjustments, if necessary, to constrain the slope trawl fishery so as to keep darkblotched rockfish mortality within the 200 mt OY.

NMFS disagrees with the commenter′s statement that these changes to management measures violate the bycatch requirements of the Magnuson-Stevens Act. NMFS is implementing management measures for the Pacific Coast groundfish fishery that are intended to keep mortality within OY levels set for those species. Management measures for the groundfish fishery as a whole are intended to allow the fishery to have some access to more abundant species while minimizing the incidental catch of overfished species to keep mortality within their OYs.

Comment 4: The darkblotched rockfish projected fishing mortality for 2006 was initially estimated in the 2005-2006 Specs EIS as 84.1 mt or 92.5 mt and has since increased to 192 mt. NMFS fails to explain how the agency arrived at the 2006 catch estimate of 192 mt for darkblotched rockfish. Why has this estimate increased?

Response: Estimates of fishing mortality for groundfish species change throughout the year as management measures change and as new information arises. Since the 2004 development of the 2005-2006 Specs EIS, NMFS has collected, analyzed and released another year of observer data, and inseason actions have been implemented that adjust groundfish management measures.

The analysis for the 2005-2006 Specs EIS used observer data, fish ticket data, logbook data, and recreational catch data from 2003 and prior years. In 2002 and 2003, the bottom trawl fishery spent several months restricted to fishing only in depths seaward of 250-fm (457-m). Therefore, information on the fishery during these periods only reflected fishing that might typically occur in depths seaward of 250-fm (457-m). Analyses using data from 2002-2003 showed that measures initially adopted for 2005 and 2006 could keep total mortality of darkblotched rockfish to within 100 mt. However, these projections were based on estimates of incidental mortality from areas shoreward of 250-fm, (457-m,) waters that had been fished relatively lightly in 2002-2003.

In early 2005, NMFS modified the trawl bycatch model to include 2004 observer data for modeling the 2005 fishing season. Through the use of this new observer data, the trawl bycatch model predicted an increase in the incidental catch of darkblotched rockfish over what was estimated in 2004. Although these new darkblotched rockfish incidental catch rates were higher than previously estimated, the 2005-2006 management measures were still expected to constrain darkblotched rockfish total catch to levels lower than required by the rebuilding plan. This observer data showed both more observations in waters shoreward of 250-fm (457-m), or more data points for analysis, and higher than previously assumed darkblotched rockfish incidental catch rates. As the 2005 fishing season progressed, landed catch data showed a higher incidental take of darkblotched rockfish than predicted in 2004, when the GMT had made estimates prior to the availability of the new observer data. Further, the model showed these higher darkblotched incidental catch levels even with more restrictive area closures implemented inseason in 2005.

Updates to observer data, and subsequent changes to the bycatch model and to management measures all resulted in changes to the projected fishing mortality of darkblotched rockfish in 2005 from pre-2005 estimates. NMFS must work with the best available science, which often means using new data for inseason management that had not been available when management measures were initially crafted. The earlier estimates from the 2005-2006 Specs EIS were based on then-current data. In November 2005, using the best available information, the GMT estimated that the total mortality for darkblotched rockfish in 2005 would be 185 mt. NMFS estimated a 2006 darkblotched rockfish mortality rate by applying the 185 mt estimated total 2005 fishing mortality from the Pacific Council's bycatch scorecard to the estimated stock biomass in 2005 to find a harvest rate. NMFS then applied this harvest rate to the 2006 projected stock biomass to predict a total fishing mortality of 192 mt in 2006. In addition to using the updated observer data from the bycatch model revised in early and late 2005, these estimates relied on new scientific information about the status of the darkblotched rockfish stock. Both the 2005 and 2006 estimated stock biomasses came from the new 2005 darkblotched rockfish stock assessment, another scientific information update. A copy of the new darkblotched rockfish stock assessment is available online at: http://www.pcouncil.org/groundfish/gfstocks/darkblotched2005b_7-6-05_4SAFE.pdf.

Comment 5: NMFS did not consider how changes to management measures for slope rockfish and splitnose rockfish would affect the incidental catch of co-occurring species, especially darkblotched rockfish. Thus, NMFS would violate the National Environmental Policy Act (NEPA) if these measures are implemented without fully analyzing the effects on species impacted by these changes.

Response: This action is within the scope of the 2005-2006 Specs EIS, which analyzed the effects of alternative harvest levels (including OYs) and management measures for the Pacific Coast groundfish fishery. The FMP at section 6.2 and Federal regulations at § 660.370 establish a process by which biennial specifications and management measures are set at the start of the biennium, in this case January 1, 2005, and adjusted during the year. Management measures may be adjusted during the year to either increase or decrease harvest opportunities so that the fisheries have access to, but do not exceed, allowable harvest levels. The 2005-2006 Specs EIS anticipated inseason adjustments to management measures in Section 1.2.1, The Proposed Action, “...Management measures may be modified during the biennial period, so total fishing mortality is constrained to the OYs identified in the preferred alternative. The environmental impacts of any such changes in management measures are expected to fall within the range of impacts evaluated in this EIS.”

The revisions to management measures implemented by this action were considered for their impacts on groundfish and other species at the Pacific Council's October 30-November 4, 2005, meeting and are within the scope of the 2005-2006 Specs EIS. Specifically, limited entry trawl trip limits for slope rockfish and splitnose rockfish ranging between 4,000 to 40,000 lb (1,814 to 18,144 kg) per 2 months were analyzed in the 2005-2006 Specs EIS. Seaward boundaries of the Trawl Rockfish Conservation Area (RCA) from 150 to 200-fm (274 to 366-m) were also analyzed in the 2005-2006 Specs EIS. In addition, the 2005-2006 Specs EIS described estimated impacts to overfished groundfish species, including darkblotched rockfish, and target species as a result of the different management measure alternatives. Each time the Pacific Council and NMFS consider inseason revisions to management measures, those considerations are supported by GMT analyses of the potential actions and their impacts on target and co-occurring species, including darkblotched rockfish.

Therefore, NMFS did not violate NEPA because the management measures for slope and splitnose rockfish being implemented with this final rule are within the scope of alternatives analyzed in the 2005-2006 Specs EIS and are not expected to exceed any of the OYs.

Comment 6: NMFS did not consider an adequate range of alternatives to the 2006 darkblotched rockfish OY, violating NEPA.

Response: As stated in the proposed rule for this action (70 FR 75115, December 19, 2005), NMFS considered a variety of potential 2006 OYs, ranging from 0-696 mt. In addition, a 200 mt OY for darkblotched rockfish is within the range of alternatives analyzed in the 2005-2006 Specs EIS, the EIS for Amendment 16-2, within the parameters of the darkblotched rockfish stock assessment and rebuilding analysis adopted by the Council in 2005, and within the parameters of the rebuilding plan adopted under Amendment 16-2, which implemented rebuilding plans for darkblotched rockfish and other overfished species. NMFS took into account the most recent darkblotched rockfish stock assessment and rebuilding analysis, the rebuilding plan, and the darkblotched OYs analyzed in the 2005-2006 Specs EIS. Therefore, NMFS did consider an adequate range of alternatives for darkblotched rockfish and did not violate NEPA. To reiterate what NMFS had stated in the proposed rule (70 FR 75115, December 19, 2005), the intent of the adjusted 2006 darkblotched OY (200 mt) is an interim measure while NMFS develops a revised rebuilding plan for darkblotched rockfish. The revised rebuilding plan and OYs for 2007-2008, which will be based on a new stock assessment for darkblotched rockfish completed in 2005, will be analyzed in an EIS being drafted in 2006.

Comment 7: A commenter stated that the estimates of fish to be caught are given from information from commercial fish profiteers.

Response: The estimates of groundfish to be caught, the harvest specifications, come from species-specific stock assessments. Stock assessments are populated with both fishery-dependent, and fishery-independent data. NMFS, the three West Coast states, and treaty Indian tribes conduct fishery-independent surveys of groundfish habitat and abundance. Information about NMFS's scientific activities on West Coast groundfish science conducted by our Northwest Fishery Science Center may be found online at: http://www.nwfsc.noaa.gov/research/divisons/fram/index.cfm; and, for our Southwest Fishery Science Center: http://santacruz.nmfs.noaa.gov/fisheries_branch/groundfish_analysis/index.php. Stock assessments are vetted through an extensive peer review process prior to their final adoption by the Pacific Council. For a copy of the Pacific Council′s Groundfish Stock Assessment Terms of Reference, please contact the Council (see ADDRESSES.)

Changes from the Proposed Rule

There are no changes from the proposed rule.

Classification

NMFS has determined that this final rule is consistent with the FMP and has determined that the rule is consistent with the Magnuson-Stevens Act and other applicable laws and is based on the best available information. The aggregate data upon which these actions are based are available for public inspection at the Office of the Administrator, Northwest Region, NMFS, (see ADDRESSES) during business hours.

There is good cause under 5 U.S.C. 553(d)(3) to establish an effective date less than 30 days after date of publication. The data upon which these specifications and management measures were based was provided to the Pacific Council, which made its recommendations at its September and November 2005 meetings. A proposed rule for this action was published on December 19, 2005 (70 FR 75115), with a comment period that ended on January 15, 2006. This action needs to implemented in a timely manner and no later than March 1, 2006, the start of the next 2-month cumulative limit period for groundfish management. Management measures for the Pacific Coast groundfish fishery, including trip limits and closed areas, are generally structured around 2-month cumulative limit periods (January-February, March-April, May-June, July-August, September-October, and November-December). The management measures being implemented in this final rule were developed to be in place for March through December 2006 in order to keep harvest of groundfish species within their OYs for the year. Inseason adjustments may be implemented, as necessary, during the year as new information becomes available. There is no harm to the fishermen and processors from waiving part of the 30-day delay in effectiveness of the rule. The Pacific Council works with the managers and the fishing industry to adjust the regulations to achieve but not exceed harvest levels each year. If these measures are not effective by March 1, 2006, the intended effect of these regulations will not be achieved, and may require additional, in many cases more restrictive, revisions, after the next Council meeting, increasing the complexity and uncertainty for the fishing industry and the Council. In addition, delaying the effectiveness of this rule may cause confusion for the fishing industry that is expecting these changes to be effective March 1, 2006, as announced at the November 2005 Council meeting and in NMFS public notices in December 2005 and January 2006 following the proposed rule. If this final rule is not implemented by March 1, 2006, management measures that were in place for March through December of 2005 would remain in place for 2006. Based on new information, management measures that were in place for 2005 may not keep all species within their OY for the year. For example, the petrale sole OY was exceeded in 2005 and would, therefore, likely be exceeded again in 2006 if the more liberal 2005 management measures for petrale sole were implemented in 2006. Management measures for 2005 may also be unnecessarily restrictive for other species. All of these measures, except the trip limits for spiny dogfish and Pacific cod and the change in the darkblotched rockfish OY, are routine adjustments to management measures that occur throughout the year. Fishermen are used to routine changes to management measures, such as trip limits, and do not have to do anything to come into compliance with them.

The adjustments to management measures in this document include changes to the commercial and recreational groundfish fisheries. Changes to the trawl RCA and the limited entry trawl trip limits for the DTS complex and flatfish must be implemented in a timely manner by March 1, 2006, so that harvest of groundfish, including overfished species, stays within the harvest levels projected for 2006 based on modeling and the most current catch projections available. Changes to the limited entry and open access daily trip limit fishery for sablefish must be implemented in a timely manner by March 1, 2006, so that the fishing industry does not lose opportunity to harvest additional fish from the increased weekly trip limits. Changes to recreational fishery management measures for seasons and recreational RCAs must be implemented as soon as possible and no later than March 1, 2006, the next recreational fishery management month, in order to conform Federal and state recreational regulations and to allow an opportunity for anglers to harvest the available harvest guidelines. Changing the darkblotched rockfish OY must be filed with the Federal Register by February 15, 2006, and implemented by March 1, 2006, to comply with a district court order addressing the court of appeals ruling in NRDC v. NMFS, 421 F.3d 872 (9th Cir. 2005). Establishing trip limits for Pacific cod and spiny dogfish by March 1, 2006, is necessary to maintain historical harvest levels and discourage new participants in these fisheries that could result in excess harvest of overfished species. As previously mentioned, updates to observer data, and subsequent changes to the bycatch model and catch projections for 2006 using 2005 catch data were used to structure these 2006 management measures. NMFS must work with the best available science, which often means using new data for management that had not been available when management measures were initially crafted. Thus, delaying any of these changes would result in management measures that fail to use the best available science and, in some cases, could lead to early closures of the fishery if harvest of groundfish exceeds levels projected for 2006. This would be contrary to the public interest because it would impair achievement of one of the Pacific Coast Groundfish FMP objectives of providing for year-round harvest opportunities or extending fishing opportunities as long as practicable during the fishing year. Therefore, allowing a full 30-day delay would impede the Agency's function of managing fisheries using the best available science to approach without exceeding the OYs for federally managed species. Also, delaying these changes in management measures for the full 30-days may allow fishermen to harvest the full 2-month cumulative limit. In cases where the trip limits are being reduced and the RCAs being made more restrictive beginning March 1, 2006, such as for the DTS complex and flatfish and the trawl RCA north of 40°10′ N. lat., this may result in more harvest of fish than projected for 2006. Potentially resulting in further reductions to trip limits and more restrictive RCAs than may have been necessary as the year progresses. These potential reductions may cause unnecessary economic hardship in lost opportunity for fishermen. Especially for those fishermen who did not race out to harvest the higher limits from the delay in effectiveness and were then penalized with lower limits later in the year.

This action contains a variety of revisions to management measures and harvest specifications. With respect to the Regulatory Flexibility Act (RFA), all of the revisions in this action, except trip limits for Pacific cod and spiny dogfish, are within the scope of the analysis conducted for the proposed and final rules to implement the 2005-2006 groundfish harvest specifications and management measures. The Initial Regulatory Flexibility Analysis (IRFA) for the 2005-2006 specifications and management measures was summarized in the preamble to the proposed rule published on September 21, 2004 (69 FR 56550), at pages 56572-56573, and concluded that the then proposed action would have intermediate effects between the different specifications and management measures alternatives considered. The FRFA was summarized in the final rule published on December 23, 2004 (69 FR 77012), at pages 77025-77026, and confirmed the conclusions of the IRFA with regard to the effects of the action on small entities. A copy of this analysis is available from the Council (see ADDRESSES).

For the management measures that are new for 2006, trip limits for spiny dogfish and Pacific cod, NMFS prepared a FRFA which incorporates the IRFA, a summary of the significant issues raised by the public comments in response to the IRFA, and NMFS responses to those comments (No public comments were received on the IRFA), and a summary of the analyses completed to support the action. A copy of this analysis is available from NMFS (see ADDRESSES). A summary of the analysis follows.

The Pacific coast groundfish fisheries, which include fisheries for spiny dogfish and Pacific cod, are covered by the Pacific Coast Groundfish FMP and developed by the Pacific Council in collaboration with the NMFS. This rule will establish management measures to constrain total fishing mortality to within harvest specifications for spiny dogfish and Pacific cod, and co-occurring species. These management measures will be established for the calendar year 2006, although they are considered within the context of past management and long-term sustainability of managed fish stocks. Separate harvest specifications (ABC/OY) have already been established for each year, 2005 and 2006; management measures are intended to keep total fishing mortality during each year within the ABC/OY established for that year.

The management measures in this final rule are expected to constrain commercial harvests in 2006 to levels that will ensure the spiny dogfish and Pacific cod stocks, and co-occurring species, are maintained at, or restored to, sizes and structures that will produce the highest net benefit to the nation, while balancing environmental and social values. Currently, there are no specific effort controls on the Pacific cod and dogfish fisheries. Although there is a limited entry program for Pacific Coast groundfish, there is also an open access fishery and neither of these fisheries has specific trip limits for spiny dogfish and Pacific cod. In response to a potential increase in effort and capacity from new entrants in the open access portion of the fishery, NMFS implemented an emergency rule in 2005. This rule set bycatch limits in the directed open access groundfish fishery, which includes spiny dogfish and Pacific cod (70 FR 23804, May 5, 2005; revised at 70 FR 38596, July 5, 2005; renewed at 70 FR 65861, November 1, 2005). These limits were set to specifically assure that an increase in effort in the spiny dogfish fishery would not lead to overfishing on co-occurring canary and yelloweye rockfish and thus lead to potential closures of economically important commercial and recreational groundfish fisheries off the West Coast. As described in the EA/RIR/IRFA, there is not only a concern about the incidental catch of overfished species, but also about the spiny dogfish and Pacific cod resources as well. Neither of these resources has been formally assessed, and neighboring stocks are depressed (i.e., Puget sound spiny dogfish and Canadian Pacific cod). The management measures in this final rule will ensure spiny dogfish and Pacific cod are harvested within ABC/OY limits during 2006 and in a manner consistent with the Groundfish FMP and National Standards Guidelines (50 CFR 600, subpart D), using routine management tools available to the specifications and management measures process (FMP at 6.2.1, 50 CFR 660.370(c).

The economic impact of these management measures for Pacific cod and spiny dogfish will be shared among groundfish buyers and commercial harvesters. It is estimated there are about 730 groundfish buyers and 1,700 commercial vessels coastwide that may be affected by these actions. Most of these entities would likely qualify as small businesses under the Small Business Administration′s criteria, with the exception of fewer than 5 buyers/processors. Under the Small Business Administration's criteria, a business involved in fish harvesting is a small business if it is independently owned and operated and not dominant in its field of operation (including its affiliates) and if it has combined annual receipts not in excess of $3.5 million for all its affiliated operations worldwide. A seafood processor is a small business if it is independently owned and operated, not dominant in its field of operation, and employs 500 or fewer persons on a full-time, part-time, temporary, or other basis, at all its affiliated operations worldwide. A business involved in both the harvesting and processing of seafood products is a small business if it meets the $3.5 million criterion for fish harvesting operations. A wholesale business servicing the fishing industry is a small businesses if it employs 100 or fewer persons on a full-time, part-time, temporary, or other basis, at all its affiliated operations worldwide. For marinas and charter/party boats, a small business is one with annual receipts not in excess of $6.0 million.

The action would affect commercial fisheries primarily off the coasts of Washington and Oregon. The action is expected to result in either no impact at all, or a modest decrease in access to Pacific cod and spiny dogfish fishing for commercial fishermen and operators currently operating in the fishery. In some years landings and revenue may be unaffected, while the largest expected impact possible for any given year is a 22 percent reduction in Pacific cod landings and revenue. For dogfish, in some years landings and revenue may be unaffected, while in other years landings and revenue may be reduced by 5 percent. However, it may foreclose opportunity for large vessels who could potentially enter the fishery, because the trip limits are based on the current smaller size structure of existing participants.

The alternatives NMFS considered ranged from unlimited trip limits for spiny dogfish and Pacific cod to constraining trip limits. The trip limit levels vary only slightly among the alternatives and were generally structured to maintain current participation in the fishery without encouraging new participation. Alternative 1 for both spiny dogfish and Pacific cod was unlimited trip limits. Alternative 2 for spiny dogfish varied between 100,000 lb (45 mt) per two months and 150,000 lb (68 mt) per two months for limited entry trawl, limited entry fixed gear and open access fisheries. Alternative 2a (preferred) for spiny dogfish varied between 100,000 lb (45 mt) per two months and 200,000 lb (91 mt) per two months for all gears. Alternative 3 for spiny dogfish varied between 80,000 lb (36 mt) per two months and 150,000 lb (68 mt) per two months for all gears. Alternative 2 (preferred) for Pacific cod varied between 30,000 lb (14 mt) per two months and 70,000 lb (32 mt) per two months for limited entry trawl gear and was 1,000 lb (0.5 mt) per two months for limited entry fixed gear and open access fisheries. Alternative 3 for Pacific cod is the same as Alternative 2 for limited entry fixed gear and open access fisheries and for limited entry trawl fisheries except that the September-October cumulative limit period is 45,000 lb (20 mt) per two months instead of 70,000 lb (32 mt) per two months.

NMFS is implementing intermediate trip limit levels for Pacific cod (Alternative 2) and for spiny dogfish (Alternative 2a) in order to accommodate current participation in the fishery. However, this action could foreclose opportunity for large vessels that may wish to enter the fishery in the future, since the trip limits implemented via this action are based on harvest levels commonly taken by the current smaller-sized participating vessels. The most constraining trip limits were rejected because they were unnecessarily constraining to some vessels. Alternately, having no trip limits was rejected because it poses a risk of over harvest of Pacific cod, spiny dogfish and co-occurring overfished groundfish species. No significant economic impacts are expected for small entities from this action.

There are no new reporting or recordkeeping requirements that are part of this action. No Federal rules have been identified that duplicate, overlap, or conflict with the alternatives.

Section 212 of the Small Business Regulatory Enforcement Fairness Act of 1996 states that, for each rule or group of related rules for which an agency is required to prepare a FRFA, the agency shall publish one or more guides to assist small entities in complying with the rule, and shall designate such publications as a “small entity compliance guide.” The agency shall explain the actions a small entity is required to take to comply with a rule or group of rules. As part of this rulemaking process, a public notice, that also serves as small entity compliance guide, was prepared. Copies of the public notice will be mailed to all limited entry permit holders, e-mailed to all recipients of the westcoastgroundfish@noaa.gov listserv, faxed to recipients on our groundfish public notice fax list, and posted on our Web site at www.nwr.noaa.gov. The public notice and this final rule will be available upon request from the Northwest Regional Office (see ADDRESSES).

All of the management measures in this final rule, except the spiny dogfish and Pacific cod trip limits, are within the scope of the Environmental Impact Statement prepared for the 2005-2006 Pacific Coast groundfish specifications and management measures. NMFS prepared an EA/RIR/IRFA for the spiny dogfish and Pacific cod trip limits and the Assistant Administrator concluded that there will be no significant impact on the human environment as a result of this rule. The EA/RIR/IRFA discussed a range of alternative trip limits. The alternatives ranged from Alternative 1, status quo or unlimited trip limits for spiny dogfish and Pacific cod, to Alternative 3, the most conservative or constraining trip limits. Alternatives 2 and 2a are intermediate trip limit levels. The preferred alternatives were Alternative 2 for Pacific cod and Alternative 2a for spiny dogfish. Alternatives 2, 2a and 3 vary only slightly in their trip limit levels and were structured to maintain current participation in the fishery without encouraging new participation. The alternatives accommodate most of the recent harvest levels in the fishery, with Alternative 3 being slightly constraining to some vessels. A copy of the EA is available from NMFS (see ADDRESSES).

In accordance with Executive Order 13175, this final rule was developed after meaningful consultation and collaboration with the tribal representative on the Pacific Council and tribal officials from the tribes affected by this action. Under the Magnuson-Stevens Act at 16 U.S.C. 1852(b)(5), one of the voting members of the Pacific Council must be a representative of an Indian tribe with federally recognized fishing rights from the area of the Council's jurisdiction. The tribal representative on the Council made a motion to adopt the management measures in this final rule that would affect tribal fishery participants, which was passed by the Council.

This final rule has been determined to be not significant for purposes of Executive Order 12866.

List of Subjects in 50 CFR Part 660

Administrative practice and procedure, American Samoa,Fisheries, Fishing, Guam, Hawaiian Natives, Indians, Northern Mariana Islands, Reporting and recordkeeping requirements.

Dated: February 10, 2006.
James W. Balsiger,
Acting Deputy Assistant Administrator for Regulatory Programs, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.370, paragraph (c)(1)(i) introductory text, (c)(1)(ii), and (d) are revised and paragraphs (c)(1)(iii), (c)(1)(iv) and (i) are removed to read as follows:

§ 660.370 Specifications and management measures.

* * * * *

(c) * * *

(1) * * *

(i)Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, and longspine thornyheads; petrale sole, rex sole, arrowtooth flounder, Pacific sanddabs, and the flatfish complex, which is composed of those species plus any other flatfish species listed at § 660.302; Pacific whiting; lingcod; Pacific cod; spiny dogfish; and “other fish” as a complex consisting of all groundfish species listed at § 660.302 and not otherwise listed as a distinct species or species group. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

(ii) Differential trip landing limits and frequency limits based on gear type, closed seasons. Trip landing and frequency limits that differ by gear type and closed seasons may be imposed or adjusted on a biennial or more frequent basis for the purpose of rebuilding and protecting overfished or depleted stocks. To achieve the rebuilding of an overfished or depleted stock, the Pacific whiting primary seasons described at § 660.373(b), may be closed for any or all of the fishery sectors identified at § 660.373(a) before the sector allocation is reached if any of the bycatch limits identified at § 660.373(b)(4) are reached.

* * * * *

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the Administrative Procedure Act to waive notice and comment. Automatic actions are used in the Pacific whiting fishery to close the fishery or reinstate trip limits when a whiting harvest guideline, commercial harvest guideline, or a sector's allocation is reached, or is projected to be reached; or to reapportion unused allocation to other sectors of the fishery.

* * * * *

3. In § 660.383, paragraph (c)(4) is revised and paragraph (f) is removed to read as follows:

§ 660.383 Open access fishery management measures.

* * * * *

(c) * * *

(4) Non-groundfish Trawl Rockfish Conservation Areas for the open access non-groundfish trawl fisheries. (i) Fishing with any non-groundfish trawl gear in the open access fisheries is prohibited within the non-groundfish trawl RCA coastwide, except as authorized in this paragraph. Trawlers operating in the open access fisheries with legal groundfish trawl gear are considered to be operating in the non-groundfish trawl fishery and are, therefore, prohibited from fishing in the non-groundfish trawl RCA. Coastwide, it is unlawful to take and retain, possess, or land any species of fish taken with non-groundfish trawl gear within the non-groundfish trawl RCA, except as permitted in this paragraph for vessels participating in the pink shrimp and ridgeback prawn trawl fisheries. Boundaries for the non-groundfish trawl RCA throughout the year in the open access fishery are provided in Table 5 (North) and Table 5 (South) of this subpart and may be modified by NMFS inseason pursuant to § 660.370(c). Non-groundfish trawl RCA boundaries are defined by specific latitude and longitude coordinates which are specified below at §§ 660.390 through 660.394. The non-groundfish trawl RCA is closed coastwide to open access non-groundfish trawl fishing, except as follows:

(A) Pink shrimp trawling is permitted in the non-groundfish trawl RCA, and

(B) When the shoreward line of the non-groundfish trawl RCA is shallower than 100-fm (183-m), the ridgeback prawn trawl fishery south of 34°27.00′ N. lat. may operate out to the 100-fm (183-m) boundary line specified at § 660.393 (i.e., the shoreward boundary of the non-groundfish trawl RCA is at the 100-fm (183-m) boundary line all year for the ridgeback prawn trawl fishery in this area).

(ii) For the non-groundfish trawl gear fisheries, non-groundfish trawl RCAs, if applicable, are generally described in the non-groundfish trawl gear sections at the bottom of Tables 5 (North) and 5 (South) of this subpart. Retention of groundfish caught by non-groundfish trawl gear is prohibited in the designated RCAs, except that:

(A) pink shrimp trawl may retain groundfish caught both within and shoreward and seaward of the non-groundfish trawl RCA subject to the limits in Tables 5 (North) and 5 (South) of this subpart, and

(B) South of 34 27′ N. lat., ridgeback prawn trawl may retain groundfish caught both within the non-groundfish trawl RCA out to 100-fm (183-m) when the shoreward boundary of the non-groundfish trawl RCA is shallower than 100-fm (183-m) (i.e., the shoreward boundary of the non-groundfish trawl RCA is at the 100-fm (183-m) boundary line all year for the ridgeback prawn trawl fishery in this area) and shoreward and seaward of the non-groundfish trawl RCA subject to the limits in Tables 5 (North) and 5 (South) of this subpart.

(iii) If a vessel fishes in the non-groundfish trawl RCA, it may not participate in any fishing on that trip that is prohibited by the restrictions that apply within the non-groundfish trawl RCA. [For example, if a vessel participates in the pink shrimp fishery within the RCA, the vessel cannot on the same trip participate in the DTS fishery seaward of the RCA.] Nothing in these Federal regulations supercedes any state regulations that may prohibit trawling shoreward of the 3-nm state waters boundary line.

* * * * *

4. In § 660.384, paragraphs (c)(1)(i)(B), (c)(2)(i) and (iii), (c)(3)(i)(A)(2) and (4) are revised to read as follows:

§ 660.384 Recreational fishery management measures.

* * * * *

(c) * * *

(1) * * *

(i) * * *

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Washington, if recreational fishing for all groundfish is prohibited seaward of a boundary line approximating the 30-fm (55-m) depth contour, a document will be published in the Federal Register inseason pursuant to § 660.370(c). Coordinates for the boundary line approximating the 30-fm (55-m) depth contour are listed in § 660.391.

(2) * * *

(i) Recreational Groundfish Conservation Areas off Oregon. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from June 1 through September 30, recreational fishing for groundfish is prohibited seaward of a recreational RCA boundary line approximating the 40-fm (73-m) depth contour. Coordinates for the boundary line approximating the 40-fm (73-m) depth contour are listed at § 660.391. Recreational fishing for all groundfish may be prohibited inseason seaward of the 20-fm (37-m) depth contour or seaward of a boundary line approximating the 30-fm (55-m) depth contour. If the closure seaward of the 20-fm (37-m) depth contour or a boundary line approximating the 30-fm (55-m) depth contour is implemented inseason, a document will be published in the Federal Register pursuant to § 660.370(c). Coordinates for the boundary line approximating the 30-fm (55-m) depth contour are listed at § 660.391.

* * * * *

(iii) Bag limits, size limits. The bag limits for each person engaged in recreational fishing in the EEZ seaward of Oregon are two lingcod per day, which may be no smaller than 24 in (61 cm) total length; and 10 marine fish per day, which excludes Pacific halibut, salmonids, tuna, perch species, sturgeon, sanddabs, lingcod, striped bass, hybrid bass, offshore pelagic species and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited.

(3) * * *

(i) * * *

(A) * * *

(2) Between 40°10′ N. lat. and 36° N. lat., recreational fishing for all groundfish (except “other flatfish”) is prohibited seaward of the 20-fm (37-m) depth contour along the mainland coast and along islands and offshore seamounts from July 1 through December 31; and is closed entirely from January 1 through June 30 (i.e., prohibited seaward of the shoreline). Closures around the Farallon Islands (see paragraph (c)(3)(i)(c)of this section) and Cordell Banks (see paragraph (c)(3)(i)(D) of this section) also apply in this area.

* * * * *

(4) South of 34°27.00′ N. latitude, recreational fishing for all groundfish (except California scorpionfish as specified below in this paragraph and in paragraph (v) and “other flatfish” as specified in paragraph (c)(3)(iv) of this section) is prohibited seaward of a boundary line approximating the 60-fm (110-m) depth contour from March 1 through August 30 and November 1 through December 31 along the mainland coast and along islands and offshore seamounts; and is prohibited seaward of a boundary line approximating the 30-fm (55-m) depth contour from September 1 through October 31; except in the CCAs where fishing is prohibited seaward of the 20-fm (37-m) depth contour when the fishing season is open (see paragraph (c)(3)(i)(B) of this section). Recreational fishing for all groundfish (except “other flatfish”) is closed entirely from January 1 through February 28 (i.e., prohibited seaward of the shoreline). Recreational fishing for California scorpionfish south of 34°27.00′ N. latitude is prohibited seaward of a boundary line approximating the 30-fm (55-m) depth contour from October 1 through October 31, and seaward of the 60-fm (110-m) depth contour from November 1 through December 31, except in the CCAs where fishing is prohibited seaward of the 20-fm (37-m) depth contour when the fishing season is open. Recreational fishing for California scorpionfish south of 34°27.00′ N. latitude is closed entirely from January 1 through September 30 (i.e., prohibited seaward of the shoreline). Coordinates for the boundary line approximating the 30-fm (55-m) and 60-fm (110-m) depth contours are specified in §§ 660.391 and 660.392.

* * * * *

5. In § 660.385, paragraphs (b)(2) and (d) are revised and paragraphs (f) and (g) are added to read as follows:

§ 660.385 Washington coastal tribal fisheries management measures.

* * * * *

(b) * * *

(2) The tribe will manage their fisheries so that fishermen are either subject to a 300-lb (136-kg) trip limit for thornyheads or subject to the limited entry trip limits for thornyheads.

* * * * *

(d) Flatfish and other fish. Treaty fishing vessels using bottom trawl gear are subject to the limits applicable to the non-tribal limited entry trawl fishery for English sole, rex sole, arrowtooth flounder, and other flatfish that are published at the beginning of the year. Treaty fishing vessels are restricted to a 50,000 lb (22,680 kg) per 2-month limit for petrale sole for the entire year.

* * * * *

(f) There is a tribal harvest guideline of 400 mt of Pacific cod. The tribes will manage their fisheries within this harvest guideline.

(g) The tribes will manage their spiny dogfish fishery within the trip limits for the non-tribal fisheries.

6. In § 660.391, paragraph (e) is revised to read as follows:

§ 660.391 Latitude/longitude coordinates defining the 27 fm(49 m) through 40 fm (73 m) depth contours.

* * * * *

(e) The 30 fm (55-m) depth contour around the northern Channel Islands of the state of California is defined by straight lines connecting all of the following points in the order stated:

(1) 34°00.98′ N. lat., 119°20.46′ W. long.;

(2) 34°00.53′ N. lat., 119°20.98′ W. long.;

(3) 34°00.17′ N. lat., 119°21.83′ W. long.;

(4) 33°59.65′ N. lat., 119°24.45′ W. long.;

(5) 33°59.68′ N. lat., 119°25.20′ W. long.;

(6) 33°59.95′ N. lat., 119°26.25′ W. long.;

(7) 33°59.87′ N. lat., 119°27.27′ W. long.;

(8) 33°59.55′ N. lat., 119°28.02′ W. long.;

(9) 33°58.63′ N. lat., 119°36.48′ W. long.;

(10) 33°57.62′ N. lat., 119°41.13′ W. long.;

(11) 33°57.00′ N. lat., 119°42.20′ W. long.;

(12) 33°56.93′ N. lat., 119°48.00′ W. long.;

(13) 33°56.45′ N. lat., 119°49.12′ W. long.;

(14) 33°58.54′ N. lat., 119°52.80′ W. long.;

(15) 33°59.95′ N. lat., 119°54.49′ W. long.;

(16) 33°59.83′ N. lat., 119°56.00′ W. long.;

(17) 33°59.18′ N. lat., 119°57.17′ W. long.;

(18) 33°57.83′ N. lat., 119°56.74′ W. long.;

(19) 33°55.71′ N. lat., 119°56.89′ W. long.;

(20) 33°53.89′ N. lat., 119°57.68′ W. long.;

(21) 33°52.93′ N. lat., 119°59.80′ W. long.;

(22) 33°52.79′ N. lat., 120°01.81′ W. long.;

(23) 33°52.51′ N. lat., 120°03.08′ W. long.;

(24) 33°53.12′ N. lat., 120°04.88′ W. long.;

(25) 33°53.12′ N. lat., 120°05.80′ W. long.;

(26) 33°52.94′ N. lat., 120°06.50′ W. long.;

(27) 33°54.03′ N. lat., 120°10.00′ W. long.;

(28) 33°54.58′ N. lat., 120°11.82′ W. long.;

(29) 33°57.08′ N. lat., 120°14.58′ W. long.;

(30) 33°59.50′ N. lat., 120°16.72′ W. long.;

(31) 33°59.63′ N. lat., 120°17.88′ W. long.;

(32) 34°00.30′ N. lat., 120°19.14′ W. long.;

(33) 34°00.02′ N. lat., 120°19.68′ W. long.;

(34) 34°00.08′ N. lat., 120°21.73′ W. long.;

(35) 34°00.94′ N. lat., 120°24.82′ W. long.;

(36) 34°01.09′ N. lat., 120°27.29′ W. long.;

(37) 34°00.96′ N. lat., 120°28.09′ W. long.;

(38) 34°01.56′ N. lat., 120°28.71′ W. long.;

(39) 34°01.80′ N. lat., 120°28.31′ W. long.;

(40) 34°03.60′ N. lat., 120°28.87′ W. long.;

(41) 34°05.20′ N. lat., 120°29.38′ W. long.;

(42) 34°05.35′ N. lat., 120°28.20′ W. long.;

(43) 34°05.30′ N. lat., 120°27.33′ W. long.;

(44) 34°05.65′ N. lat., 120°26.79′ W. long.;

(45) 34°05.69′ N. lat., 120°25.82′ W. long.;

(46) 34°07.24′ N. lat., 120°24.98′ W. long.;

(47) 34°06.00′ N. lat., 120°23.30′ W. long.;

(48) 34°05.64′ N. lat., 120°21.44′ W. long.;

(49) 34°03.61′ N. lat., 120°18.40′ W. long.;

(50) 34°03.25′ N. lat., 120°16.64′ W. long.;

(51) 34°04.33′ N. lat., 120°14.22′ W. long.;

(52) 34°04.11′ N. lat., 120°11.17′ W. long.;

(53) 34°03.72′ N. lat., 120°09.93′ W. long.;

(54) 34°03.81′ N. lat., 120°08.96′ W. long.;

(55) 34°03.36′ N. lat., 120°06.52′ W. long.;

(56) 34°04.80′ N. lat., 120°04.00′ W. long.;

(57) 34°03.48′ N. lat., 120°01.75′ W. long.;

(58) 34°04.00′ N. lat., 120°01.00′ W. long.;

(59) 34°03.99′ N. lat., 120°00.15′ W. long.;

(60) 34°03.51′ N. lat., 119°59.42′ W. long.;

(61) 34°03.79′ N. lat., 119°58.15′ W. long.;

(62) 34°04.72′ N. lat., 119°57.61′ W. long.;

(63) 34°05.14′ N. lat., 119°55.17′ W. long.;

(64) 34°04.66′ N. lat., 119°51.60′ W. long.;

(65) 34°03.79′ N. lat., 119°48.86′ W. long.;

(66) 34°03.79′ N. lat., 119°45.46′ W. long.;

(67) 34°03.27′ N. lat., 119°44.17′ W. long.;

(68) 34°03.29′ N. lat., 119°43.30′ W. long.;

(69) 34°01.71′ N. lat., 119°40.83′ W. long.;

(70) 34°01.74′ N. lat., 119°37.92′ W. long.;

(71) 34°02.07′ N. lat., 119°37.17′ W. long.;

(72) 34°02.93′ N. lat., 119°36.52′ W. long.;

(73) 34°03.48′ N. lat., 119°35.50′ W. long.;

(74) 34°03.56′ N. lat., 119°32.80′ W. long.;

(75) 34°02.72′ N. lat., 119°31.84′ W. long.;

(76) 34°02.20′ N. lat., 119°30.53′ W. long.;

(77) 34°01.49′ N. lat., 119°30.20′ W. long.;

(78) 34°00.66′ N. lat., 119°28.62′ W. long.;

(79) 34°00.66′ N. lat., 119°27.57′ W. long.;

(80) 34°01.41′ N. lat., 119°26.91′ W. long.;

(81) 34°00.91′ N. lat., 119°24.28′ W. long.;

(82) 34°01.51′ N. lat., 119°22.06′ W. long.;

(83) 34°01.41′ N. lat., 119°20.61′ W. long.; and

(84) 34°00.98′ N. lat., 119°20.46′ W. long.

* * * * *

7. In § 660.392, paragraph (g) is revised to read as follows:

§ 660.392 Latitude/longitude coordinates defining the 50 fm (91 m) through 75 fm (137 m) depth contours.

* * * * *

(g) The 60 fm (110 m) depth contour around the northern Channel Islands off the State of California is defined by straight lines connecting all of the following points in the order stated:

(1) 34°09.16′ N. lat., 120°26.31′ W. long.;

(2) 34°06.69′ N. lat., 120°16.43′ W. long.;

(3) 34°06.38′ N. lat., 120°04.00′ W. long.;

(4) 34°07.36′ N. lat., 119°52.06′ W. long.;

(5) 34°04.84′ N. lat., 119°36.94′ W. long.;

(6) 34°04.84′ N. lat., 119°35.50′ W. long.;

(7) 34°05.04′ N. lat., 119°32.80′ W. long.;

(8) 34°04.00′ N. lat., 119°26.70′ W. long.;

(9) 34°02.80′ N. lat., 119°21.40′ W. long.;

(10) 34°02.36′ N. lat., 119°18.97′ W. long.;

(11) 34°00.65′ N. lat., 119°19.42′ W. long.;

(12) 33°59.45′ N. lat., 119°22.38′ W. long.;

(13) 33°58.68′ N. lat., 119°32.36′ W. long.;

(14) 33°56.14′ N. lat., 119°41.09′ W. long.;

(15) 33°55.84′ N. lat., 119°48.00′ W. long.;

(16) 33°57.22′ N. lat., 119°52.09′ W. long.;

(17) 33°59.32′ N. lat., 119°55.59′ W. long.;

(18) 33°57.52′ N. lat., 119°55.19′ W. long.;

(19) 33°56.10′ N. lat., 119°54.25′ W. long.;

(20) 33°50.28′ N. lat., 119°56.02′ W. long.;

(21) 33°48.51′ N. lat., 119°59.67′ W. long.;

(22) 33°49.14′ N. lat., 120°03.58′ W. long.;

(23) 33°51.93′ N. lat., 120°06.50′ W. long.;

(24) 33°54.36′ N. lat., 120°13.06′ W. long.;

(25) 33°58.53′ N. lat., 120°20.46′ W. long.;

(26) 34°00.12′ N. lat., 120°28.12′ W. long.;

(27) 34°08.09′ N. lat., 120°35.85′ W. long.;

(28) 34°08.80′ N. lat., 120°34.58′ W. long.; and

(29) 34°09.16′ N. lat., 120°26.31′ W. long.

* * * * *

8. In § 660.393, paragraph (h)(157) is revised to read as follows:

§ 660. 393 Latitude/longitude coordinates defining the 100 fm (183 m) through 150 fm (274 m) depth contours.

* * * * *

(h) * * *

(157) 40°21.90′ N. lat., 124°25.18′ W. long.;

* * * * *

9. In part 660, subpart G, Table 2a is revised and Table 2B is added to read as follows:

BILLING CODE 3510-22-S

10. In part 660, subpart G, Tables 3 (both North and South), Tables 4 (both North and South) and Tables 5 (both North and South) are revised to read as follows:

[FR Doc. 06-1451 Filed 2-14-06; 2:08 pm]

BILLING CODE 3510-22-C